DEPARTMENT OF COMMERCE

National Oceanic and Atmospheric Administration

RIN 0648-XB055

North Pacific Fishery Management Council; Public Meeting

AGENCY: National Marine Fisheries Service (NMFS), National Oceanic and Atmospheric Administration (NOAA), Commerce.

ACTION: Notice of a meeting of the North Pacific Fishery Management Council (Council) and Alaska Board of Fisheries (AK BOF) Joint Protocol Committee.

SUMMARY: The North Pacific Fishery Management Council Joint Protocol Committee of the AK BOF and Council will meet in March in Anchorage, AK.

DATES: The meeting will be held on March 19, 2012, from 10 a.m. to 4 p.m.

ADDRESSES: The meeting will be held at the Hilton Hotel, Aleutian Room, 500 W. Third Avenue, Anchorage, AK.

Council address: North Pacific Fishery Management Council, 605 W. 4th Ave., Suite 306, Anchorage, AK 99501-2252.

FOR FURTHER INFORMATION CONTACT: AK BOF Staff; telephone: (907) 465-4110 or Council staff; telephone: (907) 271-2809.

SUPPLEMENTARY INFORMATION: The Committee will review the following: Status of Tanner Rebuilding, review pending actions; Status of Gulf of Alaska (GOA) Halibut Bycatch, review pending actions; Status of Salmon Chum Bycatch, review of actions on Bering Sea (BS) Chinook, review of actions on GOA Chinook, review of pending actions on BS chum salmon bycatch; Status of GOA Pacific cod (discussion papers): reverse parallel jig fishery, revise “A” season opening date in GOA, limiting other gear on board while jig fishing; Close waters to bottom gear in Prince William Sound; Aleutian Islands golden king crab total allowable catch (TAC); remove minimum TAC in Bristol Bay red king crab fishery; statewide scallops. Determination of next committee meeting and/or full Joint Board meeting; miscellaneous business.

The Agenda is subject to change, and the latest version will be posted at http://www.alaskafisheries.noaa.gov/npfmc/.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: February 28, 2012.
Tracey L. Thompson,
Acting Director, Office of Sustainable Fisheries, National Marine Fisheries Service.

[FR Doc. 2012-5118 Filed 3-1-12; 8:45 am]

BILLING CODE 3510-22-P